DEPARTMENT OF ENERGY

Federal Energy Regulatory Commission

[Docket No. RP01-20-001]

Tennessee Gas Pipeline Company; Notice of Compliance Filing

March 2, 2001.

Take notice that on November 17, 2000, Tennessee Gas Pipeline Company (Tennessee) tendered for filing a Supplemental Response to the Protest filed by National Fuel Gas Distribution Corporation on October 13, 2000, in this proceeding.

Tennessee states that the purpose of this filing is to comply with the Commission's order issued November 1, 2000, in the above docket that directed Tennessee to respond to the protest filed by National Fuel Gas Distribution Corporation.

Any person desiring to protest said filing should file a protest with the Federal Energy Regulatory Commission, 888 First Street, N.E., Washington, D.C. 20426, in accordance with section 385.211 of the Commission's Rules and Regulations. All such protests must be filed on or before March 9, 2001. Protests will be considered by the Commission in determining the appropriate action to be taken, but will not serve to make protestants parties to the proceedings. Copies of this filing are on file with the Commission and are available for public inspection in the Public Reference Room. This filing may be viewed on the web at http://www.ferc.fed.us/online/rms.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 01-5637 Filed 3-7-01; 8:45 am]

BILLING CODE 6717-01-M